DEPARTMENT OF TRANSPORTATION

Coast Guard

33 CFR Part 117

[CGD7-00-123]

RIN 2115-AE47

Drawbridge Operation Regulations; Siesta Drive Drawbridge, Gulf Intracoastal Waterway, Sarasota, FL

AGENCY: Coast Guard, DOT.

ACTION: Final rule.

SUMMARY: The Coast Guard is changing the regulations governing the operation of the Siesta Drive drawbridge across the Gulf Intracoastal Waterway, mile 71.6 at Sarasota, Florida. This rule allows the drawbridge to open every 20 minutes between the hours of 7 a.m. and 6 p.m., Monday through Friday, except Federal holidays. This action is intended to improve movement of morning commuter traffic while not unreasonably interfering with the movement of vessel traffic.

DATES: This rule is effective March 6, 2002.

ADDRESSES: Comments and material received from the public, as well as documents indicated in this preamble as being available in the docket, are part of docket [CGD7-00-123] and are available for inspection or copying at Commander (obr) Seventh Coast Guard District, 909 SE 1st Ave, Miami, FL 33131 between 7:30 a.m. and 4 p.m., Monday through Friday, except Federal holidays.

FOR FURTHER INFORMATION CONTACT: Mr. Barry Dragon, Project Manager, Seventh Coast Guard District, Bridge Branch, (305) 415-6743.

SUPPLEMENTARY INFORMATION:

Regulatory Information

On January 22, 2001 we published a notice of proposed rulemaking (NPRM) entitled Drawbridge Operation Regulations, Siesta Drive Drawbridge, Gulf Intracoastal Waterway, Florida in the Federal Register (66 FR 6513). We received 5 letters commenting on the proposed rule. No public hearing was requested, and none was held.

Background and Purpose

The Siesta Drive bascule bridge is a two lane narrow undivided urban arterial roadway which is severely congested due to insufficient capacity. This rule will extend the existing 20 minute weekday schedule to cover the morning commuter period. The existing regulation allows the bridge to open on signal, except from 11 a.m. until 6 p.m. daily, the draw need only open on the hour, 20 minutes past the hour, and 40 minutes past the hour. This rule extends the beginning of the twenty minute opening schedule from 11 a.m. to 7 a.m., Monday through Friday, except Federal holidays. On weekends and Federal holidays, the draw will open on signal, except from 7 a.m. until 6 p.m., the draw need only open on the hour, 20 minutes past the hour, and 40 minutes past the hour. Current data shows that the bridge opens less than once per hour between 7 a.m. and 6 p.m., Monday through Friday, except Federal holidays so the effect on vessels will not be unreasonable.

Discussion of Comments and Changes

We received five letters of comment concerning this proposed rule. Four letters supported the proposal. One letter writer was under the impression that the proposed regulation would allow the bridge to begin opening to vessel traffic at 7 a.m. No changes were made to the proposed rule as a result of the comments.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, 1979).

The economic impact of this rule will be so minimal that a full Regulatory Evaluation under paragraph 10e of the regulatory policies and procedures of DOT is unnecessary because this rule only slightly modifies the existing bridge schedule.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

This rule may affect the following entities, some of which might be small entities: the owners or operators of vessels intending to transit under the Siesta Drive Bridge during the hours of 7 a.m. to 11 a.m., Monday through Friday, except Federal holidays. The Coast Guard certifies under 5 U.S.C. 605(b) that this rule will not have a significant economic impact on a substantial number of small entities. This rule will not have a significant economic impact on a substantial number of small entities because this rule only slightly modifies the existing operation schedule and the maximum waiting time for vessels to pass will be 20 minutes.

Assistance for Small Entities

Under section 213(a) of the Small Business Regulatory Enforcement Fairness Act of 1996 (Pub. L. 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (32)(e), of Commandant Instruction M16475.lD, this rule is categorically excluded from further environmental documentation.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g).

2. Section 117.287(b-1) is revised to read as follows:

§ 117.287 Gulf Intracoastal Waterway.

* * * * *

(b-1) The draw of the Siesta Drive bridge, mile 71.6 at Sarasota, Florida shall open on signal, except that from 7 a.m. to 6 p.m. Monday through Friday, except Federal holidays, the draw need open only on the hour, 20 minutes past the hour, and 40 minutes past the hour. On weekends and Federal holidays, from 11 a.m. to 6 p.m., the draw need open only on the hour, 20 minutes past the hour, and 40 minutes past the hour.

* * * * *

Dated: January 16, 2002.
James S. Carmichael,
Rear Admiral, Coast Guard, Commander, Seventh Coast Guard District.

[FR Doc. 02-2635 Filed 2-1-02; 8:45 am]

BILLING CODE 4910-15-P